DEPARTMENT OF COMMERCE

National Oceanic and Atmospheric Administration

Agency Information Collection Activities; Submission to the Office of Management and Budget (OMB) for Review and Approval; Comment Request; Coastal Zone Management Program Administration

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 4, 2022, during a 60-day comment period. This notice allows for an additional 30 days for public comments.

Agency: National Oceanic & Atmospheric Administration (NOAA), Commerce.

Title: Coastal Zone Management Program Administration.

OMB Control Number: 0648-0119.

Form Number(s): None.

Type of Review: Regular submission (revision and extension of a current information collection).

Number of Respondents: 34.

Average Hours per Response: Performance Reports, 72 hours; assessment and strategy documents, 260 hours; Section 306A questionnaire and documentation, 25 hours; amendments and routine program changes, 15 hours; CNP documentation, 240 hours; CZMA Performance Management System, 25 hours.

Total Annual Burden Hours: 8,916.

Needs and Uses: This request is for revision and extension of a currently approved information collection.

In 1972, in response to intense pressure on United States (U.S.) coastal resources, and because of the importance of U.S. coastal areas, the U.S. Congress passed the Coastal Zone Management Act of 1972 (CZMA), 16 U.S.C. 1451 et. seq. The CZMA authorized a federal program to encourage coastal states and territories to develop comprehensive coastal management programs. The CZMA has been reauthorized on several occasions, most recently with the enactment of the Coastal Zone Protection Act of 1996 (CZMA as amended). The program is administered by the Secretary of Commerce, who in turn has delegated this responsibility to the National Oceanic and Atmospheric Administration's (NOAA) National Ocean Services (NOS).

The coastal zone management grants provide funds to states and territories to: implement federally-approved coastal management programs; complete information for the Coastal Zone Management Program (CZMP) Performance Management System; develop multi-year program assessments and strategies to enhance their programs within priority areas under Section 309 of the CZMA; submit documentation as described in the CZMA Section 306A for specific construction, acquisition, and educational projects; submit requests to update their federally-approved programs through amendments or program changes; and develop and submit state coastal nonpoint pollution control programs (CNP) as required under Section 6217 of the Coastal Zone Act Reauthorization Amendments.

Revisions: The CZM performance report guidance will undergo minor updates that will ensure consistency with NOAA/NOS grants requirements as well as CZMA strategic priorities. The revised CZM performance measure guidance will provide clarification for reporting on competitive and multi-year awards, as well as additional guidance on financial reporting requirements. The revised Coastal Zone Management Act Program Change Procedures revisions provide a more efficient program change process for states.

The CZMA Section 306A guidance will also likely undergo minor updates to address several technical issues that arose from the 2018 guidance update as well as clarify several minor policy issues. However, NOAA does not anticipate any changes to the record keeping requirements or time estimates for collecting the necessary documentation.

Affected Public: State, Local, or Tribal government.

Frequency: On occasion, depending on the collection instrument.

Respondent's Obligation: Required to Obtain or Retain Benefits.

Legal Authority: Coastal Zone Management Act (16 U.S.C. 1451, et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0119.

Sheleen Dumas,
Department PRA Clearance Officer, Office of the Chief Information Officer, Commerce Department.

[FR Doc. 2022-15345 Filed 7-18-22; 8:45 am]

BILLING CODE 3510-08-P